DEPARTMENT OF HOMELAND SECURITY

Coast Guard

[USCG-2003-15981]

National Offshore Safety Advisory Committee

AGENCY: Coast Guard, DHS.

ACTION: Notice of meeting.

SUMMARY: The National Offshore Safety Advisory Committee (NOSAC) will meet to discuss various issues relating to offshore safety and security. The meeting will be open to the public.

DATES: NOSAC will meet on Thursday, October 2, 2003, from 9 a.m. to 3 p.m. The meeting may close early if all business is finished. Written material and requests to make oral presentations should reach the Coast Guard on or before September 18, 2003. Requests to have a copy of your material distributed to each member of the committee should reach the Coast Guard on or before September 18, 2003.

ADDRESSES: NOSAC will meet in the Grand Ballroom A, of the Radisson Hotel New Orleans, 1500 Canal Street, New Orleans, LA 70112. Send written material and requests to make oral presentations to Captain D. L. Scott, Commandant (G-MSO), U.S. Coast Guard Headquarters, 2100 Second Street SW., Washington, DC 20593-0001. This notice is available on the Internet at http://dms.dot.gov.

FOR FURTHER INFORMATION CONTACT: Captain D. L. Scott, Executive Director of NOSAC, or Mr. Jim Magill, Assistant to the Executive Director, telephone 202-267-1082, fax 202-267-4570.

SUPPLEMENTARY INFORMATION: Notice of the meeting is given under the Federal Advisory Committee Act, 5 U.S.C. App. 2.

Agenda of Meeting

The agenda includes the following items:

(1) Report on issues concerning the International Maritime Organization and the International Organization for Standardization.

(2) Report by the Coast Guard and subcommittee chairman on public meetings held and development of maritime and offshore security rules.

(3) Report from Task Force on development and implementation of the Standards of Training, Certification and Watchkeeping for Seafarers (STCW) Convention for offshore supply vessels (OSVs).

(4) Progress report from the Subcommittee on Pipeline-Free Anchorages.

(5) Status report on Coast Guard/Minerals Management Service Inspection of Fixed Facilities.

(6) Revision of 33 CFR chapter I, subchapter N, Outer Continental Shelf activities.

(7) Revision of 33 CFR chapter I, subchapter NN, Deepwater Ports rules, and status of submissions for LNG deepwater ports.

Procedural

The meeting is open to the public. Please note that the meeting may close early if all business is finished. At the Chair's discretion, members of the public may make oral presentations during the meeting. If you would like to make an oral presentation at the meeting, please notify the Executive Director no later than September 18, 2003. Written material for distribution at the meeting should reach the Coast Guard no later than September 18, 2003. If you would like a copy of your material distributed to each member of the committee in advance of the meeting, please submit 25 copies to the Executive Director no later than September 18, 2003.

Information on Services for Individuals with Disabilities

For information on facilities or services for individuals with disabilities or to request special assistance at the meeting, contact the Executive Director as soon as possible.

Dated: August 21, 2003.
Joseph J. Angelo,
Director of Standards, Marine Safety, Security and Environmental Protection.

[FR Doc. 03-21955 Filed 8-26-03; 8:45 am]

BILLING CODE 4910-15-U